DEPARTMENT OF VETERANS AFFAIRS

[OMB Control No. 2900-New; VA Form 10-0510]

Proposed Information Collection (Nonprofit Research and Education Corporations (NPCs) Data Collection) Activity; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed collection in use without an OMB number, and allow 60 days for public comment in response to the notice. This notice solicits comments on information needed to monitor the progress of NPC programs.

DATES: Written comments and recommendations on the proposed collection of information should be received on or before August 8, 2011.

ADDRESSES: Submit written comments on the collection of information through the Federal Docket Management System (FDMS) at http://www.Regulations.gov; or to Cynthia Harvey Pryor, Veterans Health Administration (193E1), Department of Veterans Affairs, 810 Vermont Avenue, NW., Washington, DC 20420 or e-mail: cynthia.harvey-pryor@va.gov. Please refer to “2900-New (VA Form 10-0510)” in any correspondence. During the comment period, comments may be viewed online through FDMS.

FOR FURTHER INFORMATION CONTACT: Cynthia Harvey-Pryor (202) 461-5870 or Fax (202) 273-9387.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Nonprofit Research and Education Corporations (NPCs) Data Collection:

a. Nonprofit Research and Education Corporations (NPCs) PC Annual Report Template, VA Form 10-0510.

b. Nonprofit Research and Education Corporations (NPCs) Audit Actions Items Remediation Plans, VA Form 10-0510a.

c. Nonprofit Program Office (NPPO) Internal Control Questionnaire, VA Form 10-0510b.

d. Nonprofit Program Office (NPPO) Operations Oversight Questionnaire, VA Form 10-0510c.

OMB Control Number: 2900-New.

Type of Review: In use without an OMB number.

Abstracts:

a. VA Form 10-0510 is used to monitor the progress of NPC programs.

b. VA Form 10-0510a is used to review the NPC's resolutions for audit deficiencies and recommendations.

c. VA Form 10-0510b is used to conduct reviews, audits, and investigations of the NPCs. The questionnaire will also be used to uncover weaknesses and lapses in internal controls.

d. VA Form 10-0510c, or portions of it, will be used to conduct operational reviews of the NPCs. The major objective of the questionnaire is to uncover operating problems and areas that need improvement.

Affected Public: Federal Government.

Estimated Annual Burden:

a. Nonprofit Research and Education Corporations (NPCs) PC Annual Report Template, VA Form 10-0510—301 hours.

b. Nonprofit Research and Education Corporations (NPCs) Audit Actions Items Remediation Plans, VA Form 10-0510a—84 hours.

c. Nonprofit Program Office (NPPO) Internal Control Questionnaire, VA Form 10-0510b—387 hours.

d. Nonprofit Program Office (NPPO) Operations Oversight Questionnaire, VA Form 10-0510c—129 hours.

Estimated Average Burden per Respondent:

a. Nonprofit Research and Education Corporations (NPCs) PC Annual Report Template, VA Form 10-0510—210 minutes.

b. Nonprofit Research and Education Corporations (NPCs) Audit Actions Items Remediation Plans, VA Form 10-0510a—120 minutes.

c. Nonprofit Program Office (NPPO) Internal Control Questionnaire, VA Form 10-0510b—270 minutes.

d. Nonprofit Program Office (NPPO) Operations Oversight Questionnaire, VA Form 10-0510c—90 minutes.

Frequency of Response: Annually.

Estimated Number of Respondents:

a. Nonprofit Research and Education Corporations (NPCs) PC Annual Report Template, VA Form 10-0510—86.

b. Nonprofit Research and Education Corporations (NPCs) Audit Actions Items Remediation Plans, VA Form 10-0510a—42.

c. Nonprofit Program Office (NPPO) Internal Control Questionnaire, VA Form 10-0510b—86.

d. Nonprofit Program Office (NPPO) Operations Oversight Questionnaire, VA Form 10-0510c—86.

Dated: June 3, 2011.
By direction of the Secretary.
Denise McLamb,
Program Analyst, Enterprise Records Service.

[FR Doc. 2011-14118 Filed 6-7-11; 8:45 am]

BILLING CODE 8320-01-P